DEPARTMENT OF EDUCATION

Rehabilitation Short-Term Training

AGENCY: Office of Special Education and Rehabilitative Services, Department of Education.

ACTION: Notice of final priority for fiscal year (FY) 2000 and subsequent fiscal years.

SUMMARY: The Secretary announces a final funding priority for FY 2000 and subsequent fiscal years under the Rehabilitation Short-Term Training program. The Secretary takes this action to support special seminars, institutes, workshops, and other short-term courses in technical matters relating to the vocational, medical, social, and psychological rehabilitation programs, independent living services programs, and client assistance programs.

EFFECTIVE DATE: This priority is effective on March 16, 2000.

FOR FURTHER INFORMATION CONTACT: Beverly Steburg, U.S. Department of Education, 61 Forsyth Street, SW, Room 18T91, Atlanta, Georgia 30303. Telephone: (404) 562-6336. If you use a telecommunications device for the deaf (TDD), you may call the TDD number at (404) 562-6347. Internet address: Beverly—Steburg@ed.gov

Individuals with disabilities may obtain this document in an alternate format (e.g., Braille, large print, audiotape, or computer diskette) on request to the contact person listed in the preceding paragraph.

SUPPLEMENTARY INFORMATION: This notice contains a final priority under the Rehabilitation Short-Term Training program. The Short-Term Training program is authorized under section 302(a) of the Rehabilitation Act of 1973, as amended.

On October 22, 1999 the Secretary published a notice of proposed priority for this program in the Federal Register (64 FR 57352).

Note: This notice of final priority does not solicit applications. A notice inviting applications under this competition is published in a separate notice in this issue of the Federal Register.

Public Comment

In response to the Secretary's invitation in the notice of proposed priority, seven parties submitted comments. All seven commenters supported the priority, and several provided examples of how similar training has been of benefit in the past. One commenter suggested 16 specific training topics, all of which could be addressed under the priority as written. Technical and other minor changes—and suggested changes the Secretary is not legally authorized to make under the applicable statutory authority—are not addressed.

The Secretary has made no changes in this priority since publication of the notice of proposed priority.

Priority

Under 34 CFR 75.105(c)(3), the Secretary gives an absolute preference to applications that meet the following priority. The Secretary funds under this competition only applications that meet this absolute priority:

A project must—

• Provide training to Client Assistance Program (CAP) personnel on an as-needed basis, including—

(1) Management training on skills needed for strategic and operational planning and direction of CAP services;

(2) Advocacy training on skills and knowledge needed by CAP staff to assist persons with disabilities to gain access to and to use the services and benefits available under the Rehabilitation Act of 1973, as amended, with particular emphasis on new statutory and regulatory requirements;

(3) Systemic advocacy training on skills and knowledge needed by CAP staff to address programmatic issues of concern;

(4) Training and technical assistance on CAP best practices; and

(5) Training on skills and knowledge needed by CAP staff to perform additional responsibilities required by the Workforce Investment Act of 1998, as amended.

• Coordinate training efforts with other training supported by the Rehabilitation Services Administration, as well as with the training supported by the Center for Mental Health Services and the Administration on Developmental Disabilities on common areas such as protection and advocacy, financial management, and trial advocacy.

• Include both national and regional training seminars in each project year.

Goals 2000: Educate America Act

The Goals 2000: Educate America Act (Goals 2000) focuses the Nation's education reform efforts on the eight National Education Goals and provides a framework for meeting them. Goals 2000 promotes new partnerships to strengthen schools and expands the Department's capacities for helping communities to exchange ideas and obtain information needed to achieve the goals.

This final priority addresses the National Education Goal that every adult American will be literate and will possess the knowledge and skills necessary to compete in a global economy and exercise the rights and responsibilities of citizenship. The final priority furthers the objectives of this Goal by focusing available funds on projects that improve the skills of Client Assistance Program personnel, which will improve the responsiveness of the vocational rehabilitation system to adults with disabilities and their vocational pursuits.

Intergovernmental Review

This program is subject to the requirements of Executive Order 12372 and the regulations in 34 CFR part 79. The objective of the Executive order is to foster an intergovernmental partnership and a strengthened federalism by relying on processes developed by State and local governments for coordination and review of proposed Federal financial assistance.

In accordance with the order, this document is intended to provide early notification of the Department's specific plans and actions for this program.

Applicable Program Regulations: 34 CFR parts 385 and 390.

Program Authority: 29 U.S.C. 721 (b) and (e) and 796(e).

Electronic Access to This Document: You may view this document, as well as all other Department of Education documents published in the Federal Register, in text or Adobe Portable Document Format (PDF) on the Internet at either of the following sites:

http://ocfo.ed.gov/fedreg.htm

http://www.ed.gov.news.html

To use the PDF you must have the Adobe Acrobat Reader Program with Search, which is available free at either of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

(Catalog of Federal Domestic Assistance Number 84.246K. Rehabilitation Short-Term Training)
Dated: February 9, 2000.
Judith E. Heumann,
Assistant Secretary for Special Education and Rehabilitative Services.

[FR Doc. 00-3442 Filed 2-14-00; 8:45 am]

BILLING CODE 4000-01-U